DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2019. For purposes of this listing, long-term residents, as defined in section 877(e)(2), are treated as if they were citizens of the United States who lost citizenship.

Last name | First name | Middle name/initials
ABE | HIDEHI
ABE | KAZUE
ABOTOMEY | SARAH | VICTORIA
ABUMOHOR | CRISTIAN
ADACHI | HUBERT | TOMOHIRO
ADAM | SABINE | HELENE
AKAKI | MAYUMI
AKONI | OLUWALOLOLA | BOLADALE
ALBRIGHT | DELMER | LEE
ALKAZEMI | BADER | FAISAL
ALKHABORI | KHADIJA | SALEEM JAWAD
ALLAN | ALEXANDER | MACMILLIAN
ALLEN | MICHAEL | JAMES
ALLISON | RALPH | ROBERT
ALLISON | RALPH | ROBERT
ALSCHULER | ZOE | JULIE
AMRIATI-LOEVAAS | KAREN | ELISE
ANDERSON | JAN | LOIS
ARROYABE | MIREN | EDITH
ARZE | LUIS | ELIAS
ASCARELLI | DIDIER | MARCEL
ATWOOD | HANNAH | LLOYD
AZUMANE | MINAMI | ELLEN
BACKUS | KENNETH | ALAN
BACKUS | KRISTI | NICOLE MURRAY
BAECHLE | STEFAN
BAIRD | THOMAS
BARFORD MANN | PATRICIA | STEVENS
BARNES | CHRISTOPHER | JOHN
BARRETT | EILEEN | SUSAN
BARTA | GABRIEL | STROMAN
BARTELS | RACHEL | MARIE PAULE
BARTHOLOMEW | MICHAEL | ANTHONY
BARTOLOMEU | BOGDAN
BATH | SIERRA JANE | TREFRY
BATLIWALA | NASLI | J.
BAUR | ERIC | ALAN
BEAN | MARTIN | G.
BEAUDET | LILIANNE
BELANGER | LUKE | GREGORY
BELL | CAROL | EVELYN
BELL | CHRISTOPHER | WILLIAM
BELL | KENNETH | F.
BENIDICKSON | KIRSTEN | HANNAH
BENJAMIN | JOANNA | HELEN
BENNETT | GARY | MICHAEL
BERGER | MICHELE | LORRAINE
BERRY | JOSEPHINE | KENNISON
BLANCO | VICTOR | M.
BLANCPAIN | MICHELE | AIMEE
BOISSEAU | ETIENNE | LUC
BONIFATI | ALDO | BERARDINO
BOOTH | KIMBERLY | ANN
BRAMS | MURIEL | HUGUETTE
BRASSINGTON | SHELLEY | LIANNE
BRAUNLING | YOHAN | MORGEN
BRENNA | GUISEPPE
BRICKMAN | RENA | YEDIDAH
BRIMACOMBE | JESSICA | ANNE
BROLLY | ALISON | FREELAND
BROOKS | PATRICIA | SUE
BROWNE | THOMAS | CARL
BRUNNING | DALE | KIYOMI
BRUSTLEIN | PAULINE | MARGARET
BUCHANAN | AMELIA | LOUISE
BUFF | MARCEL
BUGNION | EDOUARD
BULLIVANT | DAWN | MARIE
BURGER | BEN
BURKHARD | LILLY | JANET
CAI | XINMEI
CALIN | SASHA
CALLONI | JUNKO
CAMBRIDGE | GEORGE | W.
CAMBRIDGE | SANDRA | J.
CAMPAIN | ANNA | ELIZABETH
CAMPBELL | JUDITH | ANNE
CAMPITES | JEANE | ALYSON
CARLSON | JAMES | BRADLEY
CARR | MARGARET | MARY
CARTWRIGHT | KIMBERLY | DIANE
CARTWRIGHT | MICHAEL | ALEXANDER
CARTWRIGHT | TAMARA | J.
CASABLANCAS | ALINE
CASELLA | ANAIS | MICHELLE
CASELLA | EMILIA | ANN
CASTIAUX | ARSENE | JAMES ARTHUR GASTON
CASTILLO | CONSUELO
CAUSEY | ALEXANDER | STUART
CAVANAGH | DIANE | ELAINE
CHAN | CHRISTINE | SUK YEE
CHAN | DANIEL | QUINCY
CHANDRASEKARAN | RAJARAMAN
CHAOUSIS | LINDA | GAY
CHEAH | HENRY | KAH-LOON
CHEN | KERR | FONG
CHEN | PAMELA | PIN-YING
CHIU | AGNES | SIU BING
CHIU | ALFRED | JAK SHING
CHOI | SEUNGGUN
CHOW | MEI-CHI | KUO
CHUBBUCK | DONALD | ALLAN
CHUNG | PINGHUANG
CLOUSTON | KATHRYN | LOGAN
CONWAY | KATHLEEN
CONWAY | KATHLEEN | GETRUDE
COOTE | MELISSA | RUTH
COULTER | JAY | BRADLEY
CRAWSHAW | BARBARA | JOYCE
CRITES | RICHARD | RAY
CRITTIN | DYLAN
CRITTIN | PAULINE
CROSETTI | KEVIN
CUENOUD | DORIANNE | ALICE
CURTH | S | LOUISE
DAY | SELINA | MARIE
DE DAUNANT | LAURENCE | FRANCOISE COLOMB
DE GEEST | ANNA | FREDERIKA ELZA
DE PENTHENY O'KELLY | CLARISSA | D V
DE RICHEMONT | MARIE | EGLE
DE ZOETE | MARLEEN
DEAKIN | DAVID | G.
DEAKIN | SUSAN | C.
DELAPRAZ | LUCIEN | ALBERT
DELEBARRE | CLEMENCE | HELENE
DELIA-WENTA | NATHALIE | MARIE
DETRICK | SHARON | LYNN
DHALIWAL | KULDIP | SINGH
DI FIORE | ELIZABETH | ELICE
DICKSON | CHERYL | LEE
DION | HENRI-LOUIS
DION | JEAN-CHARLES
DION | JULIETTE
DIXON | DOUGLAS | ALAN
DOBRETZ | KATIA | HELENA
DONNELLY | KIERAN | PATRICK
DONNELLY | MARK | T.
DORIG | CHRISTOPHER
DUAN | LUMING
DUBUIS | REBECCA | GRACE
DUFFY | GAVIN | RAYMOND
DUGDALE | WILLIAM | STRATFORD
DUTIA | DIPA | G.
DUTILLEUX | CELIA
EATON | ANDREA
EBIIKE | NOBUTSUGU
EDDY | CHRISTOPHER | DARRYL
EDKINS | DAVID | JAMES
ELDRED | DAVID | N.
ELIZONDO | LUIS
ELLINSON | AVIGAIL
ELLIOTT | SAMUEL | THOMAS SHINSUKE
ELLIS | MARLON
ELMIGER | HILDA | MARIA
EMERY-GOODMAN | ALICE | ANNE
ENDRES | PAUL | FREDERICK
ERNST | WOLFGANG | ERHARD
EVANS | KIM | BERTRAM
FACCHETTI | MELANIE | E.
FARRA | MONA
FASTENAU | MAUREEN | KAREN
FEAZELL | JACQUELINE | A.
FENG | DAOJI
FERBRACHE | RORY | THOMAS
FIDDLER | DENNIS | GEORGE
FILATI | STEPHAN | VALENTIN
FINLAYSON | HELENE | SARI
FITT | NICOLE | SUZANNE
FLEMING | THOMAS | ROLAND
FORCE | JAMES | MICHAEL
FOSTER | SHARON | LEE
FRANCIS | LAURA | REBECCA
FRANCZYK JR | GREGORY
FRASER | CHRISTOPHER | JAMES
FREEMAN | EDWARD | BICKNELL
FRENCH | ELIZABETH | ANNE
FROMOW | LESLIE | ANN
FUJITA | ADAM | SCOTT MASARU
FUMEY | HARRY | WALTER
FUTAMI | AKIKO
GALE | BRONSON | CHARLES GUINESS
GALLAGHER | BARBARA | ANNE
GARRIDO | PAULA | G.
GAUVREAU | GUY | GASTON
GAVILANO | RAPHAEL | BRUNO
GAW | GARYK | GAVRIEL YAN HONG
GELLINGS | BONITA | KATHRYN
GILCHRIST | MARILYN | LOUISE
GLOVER | YUMI | O.
GLUCKSBIERG | LUCIE | HENRIETTE PHILIPPINE DECAZES DE
GORBATSOV | STEPAN
GRASSI | MATTEO | GIOVANNI
GRAY | STEVEN | MICHAEL
GREENE | ALLISON | MARIE
GRIFFIOEN | MAAIKE | ELISABETH
GRIGNOLO | LAURENCE | NOEL DE RICHEMONT
GRILL | SAMUEL
GRONDIN | PHILIPPE | PAUL
GROOT | MARJOLEIN | JOHANNA IRMA
GUALZATA | LINDA | LOUISE
HAAG | BENEDIKT | THOMAS
HADLEY | KARINA | LESLIE
HADLEY | MATTHEW | STEINSVIK
HALPERN | ALEXANDER | RUSTAM
HAMILTON | JEREMY | DAVID
HAN | WEON | SHIK
HANCOCK | ROBERT | FARRELL
HANEY | JOANNE | G.
HANEY | JOHN | S.
HANNOUSH | MOHAMMAD | MAZEN
HAQQ | DONNA | MARIE
HARDS | JONATHAN | EDWARD
HARMS | STEPHAN | CRAIGE
HARRINGTON | JILLIAN | LEIGH
HARRINGTON | RITA | RAE
HARTNAGEL | PATRICIA | ANN
HASHIMOTO | MANAMI
HASLER | CHANTAL
HASPESLAGH | FREDERIK | MICHAEL
HATHORN | MICHAEL | GLEN
HAYES | DAVID | M.
HAYES | DAVID | MICHAEL
HAYES | MAUREEN | ANNE
HAYOZ | CLAUDIA | NICOLE
HENNET | NIELS | SANDER
HENRIE | JANET | CAROL
HESSENKAMP-SUWAN | RATANA
HEWSON | LUCY | MARIE
HIMMER | ELLEN | HURST
HINO | TOSHIAKI
HIRSH | ADAM | HOWARD
HO | STEPHANIE
HOANG | MINH | THANH
HOFFMAN | DEBORAH | KAY
HONEYCOMBE | CAYLIE | SUSAN
HOOGDUIN | LUCAS
HORNE | BARRETT | WAYNE
HORNE | CAROL | LOUISE
HOWARD | CHRISTOPHER | MICHAEL
HSU | ANDREAS | JING
HSU | ARWEN
HUBBARD | SARAH | LOUISE
HUGUENIN | ROGER | PHILIP
HURLEY | DANIELLE | SUZANNE
HYDE | ROGER | E.
ICHIKAWA | IZUMI
ICHIKAWA | MOTOSUGU
INOUE | MASAO
IRISH | MARJIANA | MARIE
ISENEGGER | BEATRICE | VERONICA
JAGIELOWICZ | JULIE | DAWN
JANNINK | ALEXANDRINE
JOHNS | LORENZO | BENEDETTO FRANCESCO
JOHNSON | BRIAN | CHARLES
JOHNSON | LISA | FRANCESCA
JOHNSON | SUSAN
JONGMA | CAROLINE | TINOU
JU | JIANHONG (Also, pls confirm sp)
JUNG | GIL | YOUNG
KAFKA | DEBORAH | HETTY
KAMMEIJER | JACK | ALBERT
KANNEWISCHER | FRANZISKA | MARIE-THERESE
KATSUKI | KIMIO
KATSUKI | YAEKO
KAWAHARA | YOSO
KAWAHARA | YUMIKO
KAWAJIRI | YOSHIAKI
KAYAMORI | KARIYA
KEELING | DAVID | JONATHAN
KELLER | ISABEL | GRACE
KEMP | ALEXANDER | ROSS
KETTANEH | TALAL | MICHAEL GABRIEL
KHAN | RUKHSANA
KHELIL | NAWEL
KING | ROXANNE | LEE KEIKO
KIRBY | ROGER | JAMES CROMPTON
KITAO | KATSUNORI
KLAN | REBECCA | LYNN
KOMATSU | MISAKI
KOMSKY | MARGARITA
KOMSKY | SAMUEL | GREGORY
KONDO | AKINA
KOPP | LI
KORTEWEG | HANS | ANTON WILLEM
KROIS | DANIEL | ARTHUR JAN
KRONFOL | MOHIEDDINE | NABIL
KUNG | BERNARD | YUE CHUN
KURIHARA | YUMI
KWAN | YOW-HON
LAENNEC | CHRISTINE | MONEERA
LAFORGE | CLAUDINE | GHISLAINE
LAINCY | DANNY
LAM | KAREN | KA LAI
LAMOND | DAVID | BLYTH
LAMSAM | VARANGKANA
LANDON | VERNON | REX
LANE | PATRICIA | CHARLOTTE
LANE | REBECCA | LESLEY
LAUBSCHER | DANIEL
LAUGHRAN | PATRICK | ALLEN
LAVIOLETTE | ALEXANDER | BEAU
LAWRENCE | SANDRA | LOUISE
LAWS | ELISA | SASHA
LEA | COREY | MICHAEL
LEALE | ALEXANDRA | LEIGH OLGA
LEBLANC | DENA | BETH
LEBLANC | JOSEPH | MICHAEL
LEBL-GOBET | OLGA | DENISE
LECOMPTE | DAVID | GREGORY
LEE | HYUNHEE
LEE | KELVIN | J.
LEE | LINDA | LI-WEN
LEECHAWENGWONGS | ELISSA
LEHMANN | THOMAS | MICHAEL
LELIEVRE | NADINE
LESTER | JAMIE | E.
LI | KERRY | JINGQUAN
LI | SABRINA
LI | WU
LIAO | Z | SHAUN
LIEFELD | ERIN
LIEFELD | KERRY | ANNE
LIEFIELD | JOHN | PAUL
LIN | JENG | YII
LINCKE | FRIEDRICH
LOCKHART | ELIZABETH | BLAIR
LOCKSHIN | LAWRENCE | STEVEN
LOCKSHIN | NATHANIEL | HENRIE
LOW | MENGXI
LU | SIDNEY
LU | THEODORE
LUTZ | SIMON
MacDONALD | LARA | ELAINE
MACHOWSKA | ELWIRA | J.
MacLEOD | ANN | LOUISE
MacPHERSON | SUZANNE | ELYZABETH
MADI | CHARLES | VICTOR SHYBEN
MADISON | MARLA | ETHEL
MAES | PASCALE
MAITLAND | SHOKO
MANZONI | SILVIO | GIUSEPPE
MARINELLI-POOLE | ANNE | LOUISE
MARION | DAVID | MARC
MARTELL | RODRIGO | JAVIER
MARTIN | DALE | ANDRE
MARTIN | ROCHELLE | RAE
MASE | CHARLES
MATEER | ALEXANDRA | COLTON HAND
MATTEINI | GINO
McGOWEN | MARTIN | JOHN
MCGUIRE | BRIAN | M.
MCGUIRE | PATRICK | FINAN
McMULLEN | TRAVIS | LEO
MCNAIR | ANNE | MARIE
McTAGGART | SARA | RUTH
MEDLEY | CHRISTINE | MARGARET
MENDICINI | BARBARA | FIORI PIETRAFESA
MEREDITH | ASHLEY | NICOLE
MEREDITH | SUSAN | LYNN
MEYER | THOMAS | EMANUEL
MIAH | MOHAMMED | ABDUS SOBHAN
MILLER | RALPH | DAVID
MILLS | WAYNE | RUSSELL
MOBASSALEH | MARIAM
MOFFAT | PATRICIA | DIETTERLE
MOHAN | JEREMY | G.
MONIZ | ROZARIO | A.
MOOSMANN | MARY | ROSE
MORRISON | ERIN | LEIGH
MORRISON | MICHELE
MORSE | CHRISTOPHER | RAYMOND
MORTON | SANDRA | JO
MOSELEY | BRUCE | GRANT
MOUNT | BRIAN | SCOTT
MYOI | MINA | SHARON
NAESTED | NAOMI | MARNA SYLVIE
NAKAGAWA | MICHIKO
NAKAMURA | KENJI
NAKAMURA | SHIZUKA
NAKAMURA | YOKO
NAND | JANICE | SHEILA
NARULA | MANHAD
NASIB | NASIB | ATIQ JUMA
NATHAN | IDIT | ELIA
NELSON | JOHN | MARK
NEUMAN | ARJUNA | SAMUEL
NG | TERRY | L.
NGO | BRIAN
NICHOLLS | TRACEY
NIELSEN | CHRISTOPHER | LEE
NIGAM | SONYA
NOROSKY | SUZANNE | VICTORIA
NORRIS | DEBORAH | ANN
NORTON | THOMAS | HENRY JOCELYN
O'BILLOVICH | ROBERT | GEORGE
OCHMANEK JR | EDWIN | JOSEPH
O'HARA | SHANNON | DANIELLE
OKADA | YOSHINORI
OLVER | GERALD | BOYD
OTT | STEFANIE | J.
OWER | KATHERINE | MARY
OZIER | JOYCE | RUTH
PACEY | ANN | JEANETTE
PAGE | ANTHONY | F.
PALFELT | MARY | CHRISTINA
PALMER | BRENDAN | KEEGAN HART
PALMER | CHRISTOPHER | JOHN
PARDON | JEREMY | LEE
PARK | JONG | JIN
PARR | CATHERINE | A.
PARSELL | YOSHIMI | K.
PASKES | TOBY
PASRICHA | ADRIAN
PAULSON POPPEL | DIANA | LEE
PAWLAK | KONRAD
PENNER | JARED | DEAN
PENNER | MITCHELL | JON
PERRON | ALBERT
PETELIN | FRANCESCA
PETERKIN | ALLAN | DAVID
PETERS | CLAYTON | GEORGE
PETERSON | BRUCE | WESLEY
PETTETT | SARAH | LAUREN
PFENNINGER | PETER | MARKUS
PHILIPPS | EMMA | LOUISE
PIEPER | MAURITS | BENJAMIN
PINDOLIA | HANSABEN | SURESH
PINDOLIA | SURESH | VISHRAM
PLAATS | NANCY | JEAN VANDER
POND | ALEXANDRA
POND | DARREN
POND | HEATHER | R.
POND | JOSHUA
POWELL | JAMES | JOHN
PRASAD | TARA
PRAZAK | ALENA
PRESCOTT | HELKE | HANNA-MARIE
PRYCE | TOMOTHY | DENZIL
PUSTELNIK | TOM | CLAUS
RAAB | EVELYN | ESTELLE
RABOLINI | MARIS | GAVZY
RADULOVICH | DONNA | HELEN
RAGAN | MARK | ADAIR
RAMABADRAN | SHIVKUMAR
RATTLEY | IRIS | IZUMI
RAYBURG | SCOTT | CHRISTOPHER
REES | MARY | ANN
REEVES | LESLEY | ANNE
REGAZZONI | FRANCO | ROBERTO
REICHOW | DENISE
RENAUD | HAVEN | FRANCIS
RICHTER III | OTTO | FRANK
RICKLIN | DANIEL
RICKLIN-LICHSTEINER | SALOME | K.
RINALDI | RENE | JEAN
ROBERT | JUDITH | PATRICIA
ROBERTS | APRIL | KATHRYN
ROBERTS | DIANE | GAYLE
ROBERTS | JOHN | HOWELL
ROBINSON | DAVID | R.
ROGAN | MARY | ELIZABETH
ROGERS | HELENA | MARTINA
ROMAN | DANIELLE | JOLI
ROMASCHIN | VERONICA | ALEXANDRA
ROOT | CHRISTOPHER | DUANE
ROUBICHOU | GERARD
ROWLAND | MICHAEL | PELLMAN
RUSNOCK | PAUL | HERBERT
RUTIMANN | BERNHARDT | HANS
SAKAMOTO | MICHIAKI
SAKATCH | GLORIA | JEAN
SAKURAI | HIKARI
SALM | CARSTEN | WALTER WILLI
SANGUINETI | CARLA | ROMANA
SANHEDRAI | TOVI | SISLEY C.
SANTARELLI | JEREMIAS
SARA-KENNEDY | RACHAEL
SARNO | KURT | DAVID
SAUNDERS | JEREMIAH | ALLEN DONALD
SAUNDERS | JUDITH | MARLA
SCHMID | ANDREAS | FRANCIS
SCHMID | BRENDA | ELFRIEDE
SCHUMACHER | JENNIFER | LYNN
SCHUTZ | NATASSIA | ANNE
SCHUTZ | NICHOLAS | FRANCOIS
SCOTT | KIMBERLY | ANN
SERIREONGRITH | JANNAWEE | RATANAKUL
SERIREONGRITH | PECHAPAT | RATANAKUL
SEVENS | HILDE | HELENA JAN
SEWELL | BERYL | M.
SHARPE | CHRISTOPHER | DAVID ZACHARIAH
SHAW | STAN | TERRY
SHEPARD | BEVERLY | JANE
SHEPARD | ROBERT | KIGHT
SHIMIZU | SARA | STEPHANIE
SHINTAKU | YASUKO
SHOUCAIR JR | PERLEY | WILLIAM
SHUBART | TIRA
SIEMENS | RACHEL | L.
SISSONS | JENNIFER | ANN
SIZEMORE | EAMON | ROEL
SJOGREN | PAR | L.
SKOLNICK | BETTY | PINTO
SLYKE | JEFFREY | CHARLES VAN
SMALT | FLEUR
SMEETS | VALERIE | DORINE MARIA
SNOEK | WIEKE | GABRIELLA MARIA
SOLOMON | SONIA | ANNA
SOULE | GREGORY | STEPHEN
SPITZER | CARL | PHILIP
SPITZER | KIMBERLY | GRACE
SPITZER | MIRIAM
SRIPATANASAKUL | LILY
STAHELIN | ELISABETH | MAGDALENA
STEFANELLI | MARIA | CATERINA
STEVENSON | JAMES | ALEXANDER
STILLER | RODNEY | KEVIN
STOCKS | KATHLEEN | ELLEN
STRAIGHT | BRUCE | GEORGE
STREBEL | MAX | ALLAN
STRIEPEN | CATHERINE
SUGIMOTO | SACHIKO
SUGIMOTO | TSUYOSHI
SUHAN | ZACHARY | RYLAND
SUNG | TAI | KUAN
SURETTE | ANNE | VINCENT
SUTCLIFFE | HENRY | LEE
SUTER | CECILE | ANDREA
TAGUCHI | SACHIKO
TAN | LAY-TING
TAYLOR | FAITH | BEATRICE
TEMPLE | CHRISTOPHER | VAN KIRK
TEMPLE | CHRISTOPHER | VAN KIRK
TEMPLE | JOANNA
TEMPLE | JOANNA
TENG | JESSICA | TSU NING
TESSIER | OLIVIER
THOMAS | LESLEY | JOYCE
THOMSON | BETTINA | JANE
THRANE-STEEN | CORNELIA
TIN | ANN | YAN
TOYOOKA | TOMOKA
TUAZON | MARIA | CECILIA DEVILLERES
TUITE | THERESA | MARY PATRICIA
TURNBILL | HEATH | McGREGOR
TYSOE | MYRA | LEIPSIGER
UHE | GEORGE
UN | RICKY | MAN PAN
UNC | ADRIAN
URBAIN | OLIVER | J.
VALA | DARLA | LYNN
VALCOURT | TERRI | LYNN
VAN DE VALL | PRERNA | BANG
VAN SLOBBE | HANNEKE | WILLEMIJN
VEENHOF | WILLIAM | NICHOLAS
VEMURY | SASTRY | ANANTA VENDANTAM PRAKASH
VERBRUGGEN | LYNN | KLARA ANN
VIRTUSIO | QUEENY | LADRAN
WAAL | CHERYL | L.
WACKERNAGEL | BARBARA | ELISABETH
WACKERNAGEL | WILLIAM | BEAT
WADA | MASAKO
WADA | OSAMU
WADA | TAKASHI
WALSH | CHRISTOPHER | DAMISN ST. JOHN
WALSH | JACK | WILLIAM
WANG | ZHIQIANG
WANG | ZHOU
WARD | COLLEEN | ANN
WARING | CHARLES | F.
WARMAN | ANDREA | CLAIRE
WAXMAN | MARIE | KIERAN
WEBER | ZOE | ALEXANDER
WEINBERG | LEAH | KAREN
WENDT | MARTHA | ROSEMARY
WEST | CALUM
WHITESIDE | AARON | JOSEPH
WHITFORD | DAVID | LEONARD
WHITTINGTON | MEGAN | TATIANA
WIESE | JAMES | LEWIS
WIGDERSON | OWEN | MATTHEWS
WILDER | JUERGEN
WILLIAMSON | RUARAIDH | J.
WILSON | CAROL | RICKER
WITWUTISAK | NANTIYA
WIXEY | DAVID | FRASER
WIXEY | LESLEY | ELLEN
WOLLEB | ANDREAS
WONG | JOHNNY
WONG | MADELINE | CICI
WOO | CHARLES | CHANG HSIEN
WOOD | DOUGLAS | BRYANT
WOOD | JOLAYNE | MARELYN
WOODRUFF | ANDREW | HARLEY
WOODS | MICHAEL | D.
WOODWARD | AMBER | EMILY BAIN
WORONOV | TERRY | ELLEN
WRIGHT | CAROL | DAY
WU | JENNY | PEI YUN
YANG | QINGZHENG
YANG | STANLEY | HONGSHUIUNG
YOON | JAEHEE
YORK | BRUCE | J.
YOUNAN | CINDY | RAFIK
YOUNG | SARAH | MAGILL
ZAREMBA | JOANNA | KRISTINA
ZHANG | E-E
ZHAVEN | GEORGE | ANTONIO
ZUIDHOF | JENNIFER | ANNE

Dated: August 7, 2019.
Diane Costello,
Manager Classification Team 82413, Examinations Operations—Philadelphia Compliance Services.

[FR Doc. 2019-17498 Filed 8-14-19; 8:45 am]

BILLING CODE 4830-01-P